DEPARTMENT OF COMMERCE

Foreign-Trade Zones Board

[B-6-2016]

Foreign-Trade Zone 116—Port Arthur, Texas; Expansion of Subzone 116C; Premcor Refining Group Inc.; Jefferson County, Texas

An application has been submitted to the Foreign-Trade Zones (FTZ) Board by the Foreign-Trade Zone of Southeast Texas, Inc., grantee of FTZ 116, requesting an expansion of Subzone 116C on behalf of Premcor Refining Group Inc. The application was submitted pursuant to the provisions of the Foreign-Trade Zones Act, as amended (19 U.S.C. 81a-81u), and the regulations of the FTZ Board (15 CFR part 400). It was formally docketed on February 9, 2016.

Subzone 116C was approved on October 7, 1996 (Board Order 848, 61 FR 54153-54154, October 17, 1996). The subzone (4,016 acres) currently consists of four sites located in Jefferson County: Site 1 (3,581 acres)—main refinery complex located at 1801 S. Gulfway Drive, 3 miles southwest of Port Arthur; Site 2 (101 acres)—Lucas/Beaumont Terminal Storage facility located at 9405 West Port Arthur Road, 15 miles northwest of the refinery; Site 3 (243 acres)—Fannett LPG storage terminal located at 16151 Craigen Road, near Fannett, some 2 miles west of the refinery; and, Site 4 (91 acres)—Port Arthur Products storage facility located at 1825 H.O. Mills Road, 4 miles northwest of the refinery.

The applicant is requesting authority to expand the subzone to include an additional site: Proposed Site 5 (108.2 acres)—2500 Martin Luther King Jr. Drive (Highway 82), Port Arthur. The proposed site would include a 2.7 mile pipeline that links the dock to the main refinery complex (Site 1). No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is March 28, 2016. Rebuttal comments in response to material submitted during the foregoing period may be submitted during the subsequent 15-day period to April 11, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: February 10, 2016.
Andrew McGilvray,
Executive Secretary.

[FR Doc. 2016-03072 Filed 2-12-16; 8:45 am]

BILLING CODE 3510-DS-P